DEPARTMENT OF HEALTH AND HUMAN SERVICES

National Institutes of Health

National Eye Institute; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Eye Institute Special Emphasis Panel; NEI Individual Training Grant Applications (K08, K23, K99).

Date: November 4, 2019.

Time: 9:00 a.m. to 5:00 p.m.

Agenda: To review and evaluate grant applications.

Place: National Eye Institute, Division of Extramural Activities (DEA), 6700 B Rockledge Drive, Bethesda, MD 20892 (Virtual Meeting).

Contact Person: Jeanette M. Hosseini, Ph.D., Scientific Review Officer, National Eye Institute, NIH, 6700 B Rockledge Drive, Suite 3400, Bethesda, MD 20892, (301) 451-2020, jeanetteh@mail.nih.gov.

Name of Committee: National Eye Institute Special Emphasis Panel; NEI Clinical Applications.

Date: November 18, 2019.

Time: 12:30 p.m. to 4:00 p.m.

Agenda: To review and evaluate grant applications.

Place: National Eye Institute, 6700B Rockledge Drive, Bethesda, MD 20817 (Virtual Meeting).

Contact Person: Ashley Fortress, Ph.D., Scientific Review Officer, National Eye Institute, NIH, 6700 B Rockledge Drive, Suite 3400, Bethesda, MD 20892, (301) 451-2020 ashley.fortress@nih.gov.

(Catalogue of Federal Domestic Assistance Program Nos. 93.867, Vision Research, National Institutes of Health, HHS)

Dated: October 7, 2019.
Miguelina Perez,
Program Analyst, Office of Federal Advisory Committee Policy.

[FR Doc. 2019-22238 Filed 10-10-19; 8:45 am]

BILLING CODE 4140-01-P